UNITED STATES AGENCY FOR GLOBAL MEDIA

USAGM Performance Review Board Members

AGENCY: United States Agency for Global Media.

ACTION: Notice.

SUMMARY: The United States Agency for Global Media (USAGM) announces the members of its SES Performance Review Board (PRB).

ADDRESSES: USAGM Office of Human Resources, 330 Independence Ave. SW, Washington, DC 20237.

FOR FURTHER INFORMATION CONTACT: Ellona Fritschie, Senior Advisor, at efritschie@usagm.gov or (202) 382-7500.

SUPPLEMENTARY INFORMATION: In accordance with 5 U.S.C. 4314, USAGM publishes this notice announcing the individuals who will serve as members of the PRB for a term of one year. The PRB is responsible for: (1) reviewing performance appraisals and ratings of Senior Executive Service and Senior Level members; and (2) making recommendations on other performance management issues, such as pay adjustments, bonuses, and Presidential Rank Awards. The names, position titles, and appointment types of each member of the PRB are set forth below:

1. Yolanda Lopez, Voice of America Director, Limited Term SES

2. Grant Turner, Chief Financial Officer, Career SES

3. James Reeves, Chief Information Officer, Career SES

Dated: January 9, 2023.
Armanda Matthews,
Program Support Specialist, U.S. Agency for Global Media.

[FR Doc. 2023-02396 Filed 2-3-23; 8:45 am]

BILLING CODE 8610-01-P